DEPARTMENT OF HEALTH AND HUMAN SERVICES

National Institutes of Health

National Institute of Neurological Disorders and Stroke, Interagency Pain Research Coordinating Committee Call for Committee Membership Nominations

AGENCY: National Institutes of Health, HHS.

ACTION: Notice.

SUMMARY: The Department of Health and Human Services (HHS) (Department) has created the Interagency Pain Research Coordinating Committee (IPRCC) and is seeking nominations for this committee.

DATES: Nominations are due by COB February 27th, 2026.

ADDRESSES: Nominations must be submitted through the webform on the IPRCC website: https://forms.office.com/g/T9cdDRH8nN.

FOR FURTHER INFORMATION CONTACT: Carolyn Conlin, Email: Carolyn.Conlin@nih.gov or Phone: (240) 974-8244.

SUPPLEMENTARY INFORMATION: As specified in Public Law 111-148 (“Patient Protection and Affordable Care Act”) the Committee will:

(A) develop a summary of advances in pain care research supported or conducted by the Federal agencies relevant to the diagnosis, prevention, and treatment of pain and diseases and disorders associated with pain:

(B) identify critical gaps in basic and clinical research on the symptoms and causes of pain;

(C) make recommendations to ensure that the activities of the National Institutes of Health and other Federal agencies are free of unnecessary duplication of effort;

(D) make recommendations on how best to disseminate information on pain care; and (e) make recommendations on how to expand partnerships between public entities and private entities to expand collaborative, cross-cutting research.

Membership on the committee will include six (6) non-Federal members from among scientists, physicians, and other health professionals and six (6) non-Federal members of the general public who are representatives of leading research, advocacy, and service organizations for individuals with pain-related conditions. Members will serve overlapping three-year terms. It is anticipated that the committee will meet at least once a year.

Code of regulations (41 CFR 102-3.30(c)) stipulates that committee membership must be fairly balanced in its membership in terms of the points of view represented and the functions to be performed. Appointments shall be made free from discrimination on the basis of race, religion, color, national origin, age, disability, or sex.

The Department is soliciting nominations for non-federal members from among scientists, physicians, and other health professionals and for non-federal members of the public who represent a leading research, advocacy, or service organization for people with pain-related conditions. These candidates will be considered to fill positions open through completion of current member terms. Nominations are due by COB February 27th, 2026, using the IPRCC nomination webform: https://forms.office.com/g/T9cdDRH8nN.

Dated: December 19, 2025.
Walter J. Koroshetz,
Director, National Institute of Neurological Disorders and Stroke, National Institutes of Health.

[FR Doc. 2026-01865 Filed 1-29-26; 8:45 am]

BILLING CODE 4140-01-P